DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are made available for licensing by the Department of the Navy.

Navy Case No. 83951—Apparatus and System for Data Surveillance; Navy Case No. 84021—System and Method for Improved Patient Status Monitoring; Navy Case No. 97188—Software Architecture for Access Control Based on Hierarchical Characteristics; Navy Case No. 97189—System of Access Control Based on Hierarchical Characteristics; Navy Case No. 97556—Preparation of SERS Substrates on Silica-Coated Magnetic Microspheres; Navy Case No. 98163—Algorithm for minimum antenna size; Navy Case No. 98184—MEMS-Based Multi-Channel Fabry-Perot Interferometer System with Increased Tuning Range and Resolution; Navy Case No. 98330—System and Method for Geodesic Data Mining; Navy Case No. 98408—Method for Determining Collision Risk for Collision Avoidance Systems; Navy Case No. 98582—Electrolytic Fluid Antenna; Navy Case No. 98666—Plasmonic Transistor; Navy Case No. 98721—Static Wireless Data-Glove Apparatus for Gesture Processing and Recognition and Information-Coding and Input Method; Navy Case No. 98722—Host-Centric Method for Automatic Collision Avoidance Decisions; Navy Case No. 98745—Method of Fabricating A Micro-Electro-Mechanical Apparatus for Generating Power Responsive to Mechanical Vibration; Navy Case No. 98763—Hydrostatic Actuated Flood Plug; Navy Case No. 99735—Apparatus for Generating Power Responsive to Mechanical Vibration; Navy Case No. 99740—Tunable Resonant Frequency MEMS Kinetic Energy Harvester; Navy Case No. 99741—Improved Electro-Magnetic Kinetic Energy Harvesting Device Using Increased Magnetic Edge Area; Navy Case No. 99846—Method for Fusing Overhead Imagery with Automatic Vessel Reporting Systems; Navy Case No. 99933—Improved Electrolytic Fluid Antenna; Navy Case No. 100162—Method for Detecting and Mapping Fires Using Features Extracted from Overhead Imagery; Navy Case No. 100190—Device for Maximizing Packing Density with Cylindrical Objects in Cylindrical Cavities; Navy Case No. 100225—Plasmonic Logic Device; Navy Case No. 100249—Shipboard Winch with Guide Vanes; Navy Case No. 100474—A System and Method for Learning Visual Recognition through Reusable Symbolic Pattern Matching; Navy Case No. 100345—Stand-Off Charging for Batteries; Navy Case No. 100447—Conformal Faraday Effect Antenna; Navy Case No. 100340—Shipboard Antenna Virtual Tuning System and Method; Navy Case No. 100545—Method for Maximizing Packing Density with Cylindrical Objects in Cylindrical Cavities; Navy Case No. 100678—Battery Tray Holder with Electrical Conductor for Holding Cylindrical Battery Cells; Navy Case No. 100311—System for Amplifying Flow-Induced Vibration Energy Using Boundary Layer and Wake Flow Control; Navy Case No. 100341—Simplified System Status Advisor Providing Uniform Cross-Platform Status Information; Navy Case No. 100809—Time Domain Inertial Sensor; Navy Case No. 100849—Structural Design of a Mechanical Gyro with Increased Sensitivity and Reduced Quadature Error; Navy Case No. 100869—Micro-Resonator with Reduced Acceleration Sensitivity and Phase Noise Using Time Domain Switch.

FOR FURTHER INFORMATION CONTACT: Brian Suh, Office of Research and Technology Applications, Space and Naval Warfare Systems Center Pacific, Code 72120, 53560 Hull St, Bldg A33 Room 2305, San Diego, CA 92152-5001, telephone 619-553-5118, e-mail: brian.suh@navy.mil.

Authority: 35 U.S.C. 207, 37 CFR part 404.

Dated: December 17, 2010.
D.J. Werner,
Lieutenant Commander, Office of the Judge Advocate General, U.S. Navy, Federal Register Liaison Officer.

[FR Doc. 2010-32298 Filed 12-22-10; 8:45 am]

BILLING CODE 3810-FF-P